DEPARTMENT OF ENERGY

Federal Energy Regulatory Commission

[Docket No. CP06-169-000]

Cheyenne Plains Gas Pipeline Company, L.L.C.; Notice of Request Under Blanket Authorization

May 10, 2006.

Take notice that on May 1, 2006, Cheyenne Plains Gas Pipeline Company, L.L.C. (Cheyenne Plains), Post Office Box 1087, Colorado Springs, CO 80944, filed in Docket No. CP06-169-000, a request pursuant to § 157.205 and 157.208 of the Commission's regulations under the Natural Gas Act (18 CFR 157.205 and 157.208 (2005)) and its blanket certificate issued in Docket No. CP03-304-000 for authorization to construct, own and operate 25.07 miles of 12¾-inch pipeline loop beginning at its existing Delta Washco Receipt Point Meter Station, located in Washington County, Colorado and extending northeasterly to a new receipt point interconnection located in Yuma County, Colorado. In addition, Cheyenne Plains proposes to install two electric-driven reciprocating compressor units totaling approximately 1,800 horsepower (ISO), and appurtenances, at approximately Milepost 25+370 of the proposed lateral in Yuma County Colorado. Cheyenne Plains will also install one 6″ and one 4″ ultrasonic meter, with appurtenances, located at Milepost 25+370 of the proposed lateral in Yuma County Colorado. This filing is available for review at the Commission in the Public Reference Room or may be viewed on the Web at http://www.ferc.gov using the “eLibrary” link. Enter the docket number excluding the last three digits in the docket number field to access the document. For assistance, contact FERC at FERCOnlineSupport@gerc.gov or call toll-free, (886) 208-3676 or TYY, (202) 502-8659.

Cheyenne Plains states in its filing, that the proposed Yuma Lateral is being constructed in response to the existing demand for pipeline capacity to transport natural gas from production areas in the Niobrara Reservoir to additional markets. Furthermore, Cheyenne Plains believes that further development of the Niobrara Reservoir gas supply will help replace lost production resulting from disruptions to Gulf of Mexico natural gas production caused by Hurricanes Katrina and Rita; thus helping to alleviate current nationwide gas supply concerns. Cheyenne Plains indicates the proposed Yuma Lateral will prevent the shutting in of natural gas production and help avoid the permanent loss of future production. Finally, Cheyenne Plains states that these proposed facilities will have no significant adverse environmental impacts.

Any person or the Commission's Staff may, within 45 days after the issuance of the instant notice by the Commission, file pursuant to Rule 214 of the Commission's Procedural Rules (18 CFR 385.214) a motion to intervene or notice of intervention and, pursuant to Section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

Any questions regarding this application should be directed to Richard Derryberry, Director of Regulatory Affairs Department, Cheyenne Plains Gas Pipeline Company, L.L.C., Post Office Box 1087, Colorado Springs, CO 80944, or call (719) 520-3782.

The Commission strongly encourages electronic filings of comments, protests, and interventions via the internet in lieu of paper. See 18 CFR 385.2001(a)(1)(iii) and the instructions on the Commission's Web site (http://www.ferc.gov) under the “e-Filing” link.

Magalie R. Salas,
Secretary.

[FR Doc. E6-7492 Filed 5-16-06; 8:45 am]

BILLING CODE 6717-01-P